DEPARTMENT OF TRANSPORTATION

Surface Transportation Board

[STB Finance Docket No. 34911 (Sub-No. 1)]

Montana Rail Link, Inc.—Trackage Rights Exemption—BNSF Railway Company

AGENCY: Surface Transportation Board, DOT.

ACTION: Petition for Partial Revocation.

SUMMARY: The Board, under 49 U.S.C. 10502, exempts the trackage rights described in Montana Rail Link, Inc.—Trackage Rights Exemption—BNSF Railway Company, STB Finance Docket No. 34911 (STB served Oct. 13, 2006) (MRL Trackage Rights) ¹ to permit them to expire on or about December 31, 2010, in accordance with the agreement of the parties, subject to the employee protective conditions set forth in Oregon Short Line R. Co.—Abandonment—Goshen, 360 I.C.C. 91 (1979).

¹ On September 25, 2006, Montana Rail Link, Inc. (MRL) concurrently filed a notice of exemption under the Board's class exemption procedures at 49 CFR 1180.2(d)(7). The notice covered the agreement by BNSF Railway Company (BNSF) to grant overhead trackage rights to MRL over BNSF's rail lines extending from approximately milepost 51.07 at or near Garrison, MT, to approximately milepost 21.5, a location south of Warm Springs, MT, a distance of approximately 29.57 miles. See MRL Trackage Rights. The trackage rights operations under the exemption were scheduled to be consummated on or after October 2, 2006.

DATES: The exemption will be effective on December 28, 2006. Petitions to stay must be filed by December 8, 2006. Petitions to reopen must be filed by December 18, 2006.

ADDRESSES: An original and 10 copies of all pleadings, referring to STB Finance Docket No. 34911 (Sub-No. 1) must be filed with the Surface Transportation Board, 1925 K Street, NW., Washington, DC 20423-0001. In addition, a copy of all pleadings must be served on petitioner's representative: Troy Garris, 1300 19th Street, NW., Fifth Floor, Washington, DC 20036.

FOR FURTHER INFORMATION CONTACT: Joseph H. Dettmar, (202) 565-1609. [Assistance for the hearing impaired is available through the Federal Information Relay Service (FIRS) at 1-800-877-8339.]

SUPPLEMENTARY INFORMATION: Additional information is contained in the Board's decision. To purchase a copy of the full decision, write, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: November 17, 2006.
By the Board, Chairman Nottingham, Vice Chairman Mulvey, and Commissioner Buttrey.
Vernon A. Williams,
Secretary.

[FR Doc. E6-19977 Filed 11-27-06; 8:45 am]

BILLING CODE 4915-01-P